DEPARTMENT OF HEALTH AND HUMAN SERVICES

Food and Drug Administration

[Docket No. FDA-2008-N-0447]

Achieving a Future Vision at the 2008 Parenteral Drug Association and the Food and Drug Administration Joint Regulatory Conference

AGENCY: Food and Drug Administration, HHS.

ACTION: Notice of meeting.

The Food and Drug Administration (FDA) is announcing the following meeting: Achieving a Future Vision at the 2008 Parenteral Drug Association and the Food and Drug Administration Joint Regulatory Conference. The topics to be discussed are: FDA's Pharmaceutical Inspectorate and the Global Harmonization Task Force; Trans Atlantic initiative; Product development; and legacy products; Supply chain; Combination products; and Recall root causes.

Date and Time: The meeting will be held on September 8 through 12, 2008, 7 a.m. to 6.

Location: The meeting will be held at Renaissance Hotel, 999 9th St., NW., Washington, DC 20001.

Contact: Wanda Neal-Ballard, Parenteral Drug Association, PDA Global Headquarters, Bethesda Towers, 4350 East West Hwy., Suite 200, Bethesda, MD 20814 or by telephone on 301-986-0293, ext. 111.

Registration and Meeting Information: See PDA Web site, www.pda.org/pdafda2008 or contact Wanda Neal-Ballard on 301-986-0293, ext. 111. From now until August 25, 2008, registration fees are as follows: $1,600.00 for Members, $2,000.00 for Non-members, $615.00 for Government/Health Authority/Academic and $230.00 for Students. After August 25, 2008, registration fees are as follows: $1,800.00 for Members, $2,200.00 for Non-members, $700.00 for Government/Health Authority/Academic and $260.00 for Students.

If you need special accommodations due to a disability, please contact Wanda Neal-Ballard at least 7 days in advance.

Dated: August 18, 2008.
Jeffrey Shuren,
Associate Commissioner for Policy and Planning.

[FR Doc. E8-19491 Filed 8-21-08; 8:45 am]

BILLING CODE 4160-01-S